ENVIRONMENTAL PROTECTION AGENCY

[ER-FRL-9057-9]

Environmental Impact Statements; Notice of Availability

Responsible Agency: Office of Federal Activities, General Information 202-564-5632 or https://www.epa.gov/nepa.

Weekly receipt of Environmental Impact Statements (EIS)

Filed August 9, 2021 10 a.m. EST Through August 16, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210117, Draft, NOAA, CA, Amendment 6 to the Fishery Management Plan for West Coast Highly Migratory Species Fisheries: Authorization of Deep-set Buoy Gear, Comment Period Ends: 10/04/2021, Contact: Amber Rhodes 562-477-8342.

EIS No. 20210118, Draft Supplement, NHTSA, REG, Model Year 2024-2026 Corporate Average Fuel Economy Standards, Comment Period Ends: 10/04/2021, Contact: Vinay Nagabhushana 202-366-1452.

EIS No. 20210119, Final, AZDOT, AZ, North-South Corridor Study Tier 1, Contact: Katie Rodriguez 480-521-8887.

Under 23 U.S.C. 139(n)(2), AZDOT has issued a single document that consists of a final environmental impact statement and record of decision. Therefore, the 30-day wait/review period under NEPA does not apply to this action.

EIS No. 20210120, Final, BLM, NV, Relief Canyon Mine Project, Review Period Ends: 09/20/2021, Contact: Jeanette Black 775-623-1500.

EIS No. 20210121, Final, BOEM, MA, South Fork Wind Farm and South Fork Export Cable Project, Review Period Ends: 09/20/2021, Contact: Michelle Morin 703-787-1722.

Dated: August 16, 2021.
Candi Schaedle,
Acting Director, NEPA Compliance Division, Office of Federal Activities.

[FR Doc. 2021-17868 Filed 8-19-21; 8:45 am]

BILLING CODE 6560-50-P